ENVIRONMENTAL PROTECTION AGENCY

[EPA-HQ-SFUND-2004-0008; FRL-9945-19-OEI]

Information Collection Request Submitted to OMB for Review and Approval; Comment Request; Consolidated Superfund Information Collection Request (Renewal)

AGENCY: Environmental Protection Agency (EPA).

ACTION: Notice.

SUMMARY: The Environmental Protection Agency has submitted an information collection request (ICR), “Consolidated Superfund Information Collection Request (Renewal)”, (EPA ICR No. 1487.13, OMB Control No. 2050-0179) to the Office of Management and Budget (OMB) for review and approval in accordance with the Paperwork Reduction Act (44 U.S.C. 3501 et seq.). This is a proposed extension of the ICR, which is currently approved through April 30, 2016. Public comments were previously requested via the Federal Register (80 FR 76015) on December 7, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before May 26, 2016.

ADDRESSES: Submit your comments, referencing Docket ID Number EPA-HQ-SFUND-2004-0008, to (1) EPA online using www.regulations.gov (our preferred method), by email to superfund.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Laura Knudsen, Office of Solid Waste and Emergency Response, Assessment and Remediation Division, (5204P), Environmental Protection Agency, 1200 Pennsylvania Ave. NW., Washington, DC 20460; telephone number: 703-603-8861; email address: knudsen.laura@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: This ICR covers the following: The collection of information under 40 CFR part 35, subpart O, which establishes the administrative requirements for cooperative agreements funded under the Comprehensive Environmental Response, Compensation, and Liability Act (CERCLA) for state, federally-recognized Indian tribal governments, and political subdivision response actions; the application of the Hazard Ranking System (HRS) by states as outlined by section 105 of CERCLA (1980 and 1986) that amends the National Oil and Hazardous Substances Pollution Contingency Plan (NCP) to include criteria prioritizing releases throughout the U.S. before undertaking remedial action at uncontrolled hazardous waste sites; and the remedial portion of the Superfund program as specified in the Comprehensive Environmental Response, Compensation, and Liability Act of 1980 as amended (CERCLA) and the National Oil and Hazardous Substances Pollution Contingency Plan (NCP). For Cooperative Agreements and Superfund State Contracts for Superfund Response Actions, the information is collected from applicants and/or recipients of EPA assistance and is used to make awards, pay recipients, and collect information on how federal funds are being utilized. EPA requires this information to meet its federal stewardship responsibilities. Recipient responses are required to obtain a benefit (federal funds) under 40 CFR part 31, “Uniform Administrative Requirements for Grants and Cooperative Agreements to State and Local Governments” and under 40 CFR part 35, “State and Local Assistance.” For the Superfund Site Evaluation and Hazard Ranking System, the states will apply the HRS by identifying and classifying those releases or sites that warrant further investigation. The HRS score is crucial since it is the primary mechanism used to determine whether a site is eligible to be included on the National Priorities List (NPL). Only sites on the NPL are eligible for Superfund-financed remedial actions. For the NCP information collection, some community involvement activities covered by this ICR are not required at every site (e.g., Technical Assistance Grants) and depend very much on the community and the nature of the site and cleanup. All community activities seek to involve the public in the cleanup of the sites, gain the input of community members, and include the community's perspective on the potential future reuse of Superfund NPL sites. Community involvement activities can enhance the remedial process and increase community acceptance and the potential for productive and beneficial reuse of the sites.

Form Numbers: 6200-11.

Respondents/affected entities: State, Local or Tribal Governments; Communities; U.S. Territories.

Respondent's obligation to respond: Required to obtain benefits (40 CFR part 35; section 105 of the CERCLA, 1980 and 1986; 40 CFR part 300 under CERCLA).

Estimated number of respondents: 14,284 (total).

Frequency of response: Annually.

Total estimated burden: 876,529 hours (per year). Burden is defined at 5 CFR 1320.03(b).

Total estimated cost: $514,952 (per year), includes $0 annualized capital or operation & maintenance costs.

Changes in the Estimates: There is an increase of 568,071 hours in the total estimated respondent burden compared with the ICR currently approved by OMB. This increase is due to a 28% increase in the number of assessment reports by respondents for the Superfund Site Evaluation and Hazard Ranking System, an overall increase in respondents for the Cooperative Agreements and Superfund State Contracts for Superfund Response Actions, and an increase in total contractor hours for an RI/FS project for the National Oil and Hazardous Substances Pollution Contingency Plan.

Courtney Kerwin,
Acting Director, Collection Strategies Division.

[FR Doc. 2016-09547 Filed 4-25-16; 8:45 am]

BILLING CODE 6560-50-P